DEPARTMENT OF THE INTERIOR

National Park Service

[NPS-WASO-NAGPRA-18025; PPWOCRADN0-PCU00RP15.R50000]

Notice of Inventory Completion: The American Museum of Natural History, New York, NY; Correction

AGENCY: National Park Service, Interior.

ACTION: Notice; correction.

SUMMARY: The American Museum of Natural History has revised a Notice of Inventory Completion that was published in the Federal Register on February 4, 2015. This notice revises the listing of Indian tribes who are recognized as aboriginal to the area from which Native American human remains were removed.

ADDRESSES: Nell Murphy, Director of Cultural Resources, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the revision of a Notice of Inventory Completion for human remains under the control of the American Museum of Natural History, New York, NY. The human remains were removed from the Grand Hotel vicinity, Mackinac Island, Mackinac County, MI.

This notice is published as part of the National Park Service's administrative responsibilities under NAGPRA, 25 U.S.C. 3003(d)(3). The determinations in this notice are the sole responsibility of the museum, institution, or Federal agency that has control of the Native American human remains. The National Park Service is not responsible for the determinations in this notice.

This notice revises the listing of Indian tribes who are recognized as aboriginal to the area from which Native American human remains were removed. These remains were described in a Notice of Inventory Completion published in the Federal Register (80 FR 6120-6121, February 4, 2015).

In the Federal Register (80 FR 6121, February 4, 2015), paragraph 13, sentence 1 has been revised by substituting the following sentence:

According to final judgments of the Indian Claims Commission or the Court of Federal Claims, or indicated by Treaties, Acts of Congress, or Executive Orders, the land from which the Native American human remains were removed is the aboriginal land of The Tribes.

In the Federal Register (80 FR 6120-6121, February 4, 2015), paragraph 14 is revised by deleting the entire paragraph.

The American Museum of Natural History is responsible for notifying The Tribes that this notice has been published.

Dated: April 22, 2015.
Mariah Soriano,
Acting Manager, National NAGPRA Program.

[FR Doc. 2015-12532 Filed 5-21-15; 8:45 am]

BILLING CODE 4312-50-P